DEPARTMENT OF COMMERCE

International Trade Administration

[A-570-863]

Honey From the People's Republic of China: Notice of Amended Final Results Pursuant to Final Court Decision

AGENCY: Import Administration, International Trade Administration, Department of Commerce.

SUMMARY: On November 18, 2008, the Court of International Trade (“CIT”) affirmed the Department's remand determination and entered judgment in Shanghai Eswell Enteprise Co., Ltd., Jinfu Trading Co., Ltd., and Zhejiang Native Produce and Animal By-Products Import & Export Group Corp. v. United States, Court 2008 Ct. Intl. Trade LEXIS 123 (November 18, 2008) (“Shanghai Eswell II”), which challenged certain aspects of the Department of Commerce's (“the Department”) findings in Honey from the People's Republic of China: Final Results and Final Rescission, In Part, of Antidumping Duty Administrative Review, 70 FR 38873 (July 6, 2005) (“Final Results”) and the accompanying Issues and Decision Memorandum. Additionally, on appeal, on November 5, 2009, the Court of Appeals for the Federal Circuit (“CAFC”) affirmed the CIT's ruling in Eswell II. See Shanghai Eswell Enterprise Co., Ltd., Jinfu Trading Co., Ltd., and Zhejiang Native Produce and Animal By-Products Import & Export Group Corp. v. United States, 2009 U.S. App. LEXIS 24374 (Fed. Cir. Nov. 5, 2009) (“Shanghai Eswell III”). As explained below, in accordance with the order contained in the CIT's November 18, 2008 judgement, Shanghai Eswell II, the Department is amending the Final Results of the review to apply the recalculated surrogate financial ratios in the Department's normal value calculation.

DATES: Effective Date: April 14, 2010.

FOR FURTHER INFORMATION CONTACT: Julia Hancock or Scot T. Fullerton, AD/CVD Operations, Office 9, Import Administration, U.S. Department of Commerce, 14th Street and Constitution Avenue, NW., Room 4003, Washington, DC 20230; telephone: (202) 482-1394 or (202) 482-1386, respectively.

SUPPLEMENTARY INFORMATION:

Background

On July 6, 2005, the Department completed its Final Results of the second administrative review of honey from the People's Republic of China (“PRC”). On September 13, 2007, the CIT remanded the following issues to the Department for further explanation consistent with its opinion and Order: (1) The surrogate value for raw honey and the evidence indicating a decline in honey prices; (2) the denial of a circumstance of sale adjustment for sales commissions; (3) the failure to include MHPC's expenses for jars, corks and honey machines in the financial ratio calculation; and (4) the finding Jinfu PRC was unaffiliated with Jinfu USA. See Shanghai Eswell Enterprise, Co., Ltd., et al. v. United States, 31 C.I.T. 1570, (Ct. Int'l Trade 2007). Pursuant to the CIT's remand instructions, the Department: (1) Addressed record evidence which indicated a decline in export prices during the second half of the POR and explained why we have refrained from considering these data in calculating a surrogate value for raw honey; (2) explained that there was insufficient evidence of an exact correlation between respondents' and the surrogate producer's expenses and continued to deny circumstances of sale adjustment for sales commissions; (3) revised our financial ratio calculations to include reported expenses for jars and corks as direct materials used for producing finished honey and provided further explanation regarding our finding that honey machine purchases do not constitute direct expenses; and (4) examined the record evidence and continued to find that Jinfu PRC and Jinfu USA were not affiliated prior to October 25, 2003, because Jinfu PRC's CEO did not exercise control over Jinfu USA prior to this date.

On February 11, 2008, the Department filed its final results of redetermination pursuant to Eswell I with the CIT. See Final Results of Redetermination Pursuant to Court Remand: Shanghai Eswell Enterprise Co., Ltd. v. United States, Court No. 06-00430 (February 11, 2008) (“Eswell I”). As noted above, both the CIT and the Federal Circuit affirmed the agency's remand determination. See Shanghai Eswell II, Shanghai Eswell III. Because the Department, in its remand determination, revised its financial ratio calculations to include expenses for jars and corks as direct materials used to produce finished honey, we must revise the surrogate financial ratios and margin calculations for Eswell Enterprise Co., Ltd., Jinfu and Zhejiang Native Produce and Animal By-Products Import & Export Group Corp.

Amendment to the Final Determination

Because there is now a final and conclusive court decision, effective as of the publication date of this notice, we are amending the Final Results and revising the weighted average dumping margins for the following companies:

Honey from the PRC
Manufacturer/exporter | Weighted-average margin (percent)
Shanghai Eswell Enterprise Co., Ltd | 27.64
Jinfu Trading Co., Ltd | 58.44
Zhejiang Native Produce and Animal By-Products Import & Export Group Corp | 34.81

We have calculated: (1) Shanghai Eswell Enterprise Co., Ltd.'s (“Shanghai Eswell”) company-specific antidumping margin as 27.64 percent; (2) Jinfu Trading Co., Ltd.'s (“Jinfu Trading”) company-specific antidumping margin as 58.44 percent; and (3) Zhejiang Native Produce and Animal By-Products Import & Export Group Corp.'s (“Zhejiang Native”) company-specific antidumping margin as 34.81 percent. See the Memorandum to the File from Michael Quiqley, “Analysis Memorandum for the Final Results of the Redetermination of the Redetermination of the Financial Ratios Remand for Antidumping Duty Administrative Review of Honey from the People's Republic of China for Shanghai Eswell Enterprise Co., Ltd.,” dated February 11, 2008 (“Eswell Final Analysis Memo”); Memorandum to the File from Michael Quiqley, “Analysis Memorandum for the Final Results of the Redetermination of the Redetermination of the Financial Ratios Remand for Antidumping Duty Administrative Review of Honey from the People's Republic of China for Jinfu Trading Co., Ltd.,” dated February 11, 2008 (“Jinfu Trading Final Analysis Memo”); the Memorandum to the File from Michael Quiqley, “Analysis Memorandum for the Final Results of the Redetermination of the Redetermination of the Financial Ratios Remand for Antidumping Duty Administrative Review of Honey from the People's Republic of China for Zhejiang Native Produce and Animal By-Products Import & Export Group Corp.,” dated February 11, 2008 (“Zhejiang Native Final Analysis Memo”).

There have been no other changes to this analysis, except for the revised financial ratio calculations to include expenses for jars and corks as direct materials used to producing finished honey, for these amended final results. In accordance with the Department's practice of issuing importer-specific assessment rates, we will instruct the United States Customs and Border Protection (“CBP”) to apply the importer specific assessment rate for Shanghai Eswell's, Jinfu Trading's, and Zhejiang Native's respective exports to the United States. See Eswell Final Analysis Memo at Attachment 3; Jinfu Trading Final Analysis Memo at Attachment 3; and Zhejiang Native Final Analysis Memo at Attachment 3. The Department will issue appropriate assessment instructions directly to CBP within 15 days of publication of the amended final results of this review.

This notice is issued and published in accordance with sections 751(a)(1) and 777(i)(1) of the Tariff Act of 1930, as amended.

Dated: April 5, 2010.
Ronald K. Lorentzen,
Deputy Assistant Secretary for Import Administration.

[FR Doc. 2010-8559 Filed 4-13-10; 8:45 am]

BILLING CODE 3510-DS-P